DEPARTMENT OF AGRICULTURE

Animal and Plant Health Inspection Service

[Docket No. APHIS-2010-0100]

Environmental Impact Statement; Cattle Fever Tick Control Barrier in South Texas: Record of Decision

AGENCY: Animal and Plant Health Inspection Service, USDA.

ACTION: Notice.

SUMMARY: This notice advises the public of the Animal and Plant Health Inspection Service's record of decision for the final environmental impact statement titled “Cattle Fever Tick Eradication Program—Tick Control Barrier: Maverick, Starr, Webb, and Zapata Counties, Texas.”

DATES: An official of the Animal and Plant Health Inspection Service-Veterinary Services signed the record of decision on July 12, 2018.

ADDRESSES: You may read the final environmental impact statement and record of decision in our reading room. The reading room is located in room 1141 of the USDA South Building, 14th Street and Independence Avenue SW, Washington, DC. Normal reading room hours are 8 a.m. to 4:30 p.m., Monday through Friday, except holidays. To be sure someone is there to help you, please call (202) 799-7039 before coming. The record of decision, final environmental impact statement, and supporting information may also be viewed at http://www.regulations.gov/#!docketDetail;D=APHIS-2010-0100. To obtain copies of the documents, contact the person listed under FOR FURTHER INFORMATION CONTACT.

FOR FURTHER INFORMATION CONTACT: For questions related to the Cattle Fever Tick Eradication Program, contact Dr. Denise Bonilla, Entomologist, Cattle Fever Tick Eradication Program Manager, Surveillance, Preparedness and Response Services, VS, APHIS, Natural Resources Research Center, Building B, 2150 Centre Avenue, Fort Collins, CO 80526; (970) 494-7317. For questions related to the environmental impact statement, contact Ms. Michelle Gray, Environmental Protection Specialist, Environmental and Risk Analysis Services, PPD, APHIS, 4700 River Road Unit 149, Riverdale, MD 20737; (301) 851-3146.

SUPPLEMENTARY INFORMATION: On February 15, 2011, we published in the Federal Register (76 FR 8709-8710) a notice ¹ of intent to prepare an environmental impact statement (EIS) for a proposed cattle fever tick control barrier in South Texas. This notice solicited comments from the public for additional alternatives and environmental impacts that should be examined further in the EIS and identified public meetings that the Animal and Plant Health Inspection Service (APHIS) would host concerning the scope of the EIS and other pertinent issues.

¹ The notices, comments, EIS, record of decision, and supporting documents for this docket can be viewed at http://www.regulations.gov/#!docketDetail;D=APHIS-2010-0100.

On July 24, 2013, we published a notice of availability in the Federal Register (78 FR 44521-44522) for the draft EIS and invited public comment through August 30, 2013. Responses to those comments are in the final EIS. On June 1, 2018, the U.S. Environmental Protection Agency published a notice of the availability of the final EIS in the Federal Register (83 FR 25451-25452, Docket No. ER-FRL-9039-6) and invited public comment through July 2, 2018.

The National Environmental Policy Act (NEPA) implementing regulations in 40 CFR 1506.10 require a minimum 30-day waiting period between the time a final EIS is published and the time an agency makes a decision on an action covered by the EIS. APHIS has reviewed the final EIS and comments received during the 30-day waiting period and has concluded that the final EIS fully analyzes the issues covered by the draft EIS and addresses the comments and suggestions submitted by commenters. This notice advises the public that the waiting period has elapsed, and APHIS has issued a record of decision (ROD) to implement the preferred alternative described in the final EIS.

The ROD has been prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 26th day of November 2018.
Kevin Shea,
Administrator, Animal and Plant Health Inspection Service.

[FR Doc. 2018-26068 Filed 11-29-18; 8:45 am]

BILLING CODE 3410-34-P